PEACE CORPS

Information Collection Requests Under OMB Review

AGENCY: Peace Corps.

ACTION: Notice of public use form review request to the Office of Management and Budget.

SUMMARY: The Director for Coverdell World Wise Schools invites comments on information collection requests as required pursuant to the Paperwork Reduction Act (44 U.S.C. Chapter 35). This notice announces that Coverdell World Wise Schools has submitted to the Office of Management and Budget a request to approve the use of the PC-DO-969.5 (04/2007), Correspondence Match Educator Online Enrollment Form: Educator Sign Up Form. A copy of the information collection may be obtained from Sally Caldwell, Director of World Wise Schools, Peace Corps, Office of Domestic Programs, 1111 20th Street, NW., Washington, DC 20256. Ms. Caldwell may be contacted by telephone at 202-692-1425. Coverdell World Wise Schools invites comments on whether the proposed collection of information is necessary for proper performance of the functions of the Peace Corps' Coverdell World Wise Schools' Correspondence Match program, including whether the information will have practical use; the accuracy of the agency's estimate of the burden of proposed collection of information, including the validity of the methodology and assumptions used; ways to enhance the quality, utility, and clarify of the information to be collected; and ways to minimize the burden of the collection of information to on those who are to respond, including through the use of automated collection techniques, when appropriate, and other forms of technology. Comments on the form should be addressed to the attention of Ms. Sally Caldwell, Director of World Wise Schools, Peace Corps, Office of Domestic Programs, 1111 20th Street, NW., Washington, DC 20256, and should be received on or before July 5, 2007.

Information Collection Abstract

Title: Correspondence Match Educator Online Enrollment Form.

Need For and Use of This Information: The Peace Corps and Paul D. Coverdell World Wise Schools need this information officially to enroll educators in the Correspondence Match program. The information is used to make suitable matches between the educators and currently serving Peace Corps Volunteers.

Respondents: Educators interested in promoting global education in the classroom.

Respondents' Obligation To Reply: Voluntary.

Burden on the Public:

a. Annual reporting burden: 1667 hours.

b. Annual record keeping burden: 250 hours.

c. Estimated average burden per response: 10 minutes.

d. Frequency of response: Annually.

e. Estimated number of likely respondents: 10,000.

f. Estimated cost to respondents: $0.00/$0.00.

Dated: May 23, 2007.
Wilbert Bryant,
Associate Director for Management.

[FR Doc. 07-2747 Filed 6-1-07; 8:45 am]

BILLING CODE 6051-01-M